DEPARTMENT OF HEALTH AND HUMAN SERVICES

Food and Drug Administration

[Docket No. 2004N-0516]

Agency Information Collection Activities; Submission for Office of Management and Budget Review; Comment Request; 2005 Food Safety Survey

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by June 23, 2005.

ADDRESSES: OMB is still experiencing significant delays in the regular mail, including first class and express mail, and messenger deliveries are not being accepted. To ensure that comments on the information collection are received, OMB recommends that written comments be faxed to the Office of Information and Regulatory Affairs, OMB, Attn: Fumie Yokota, Desk Officer for FDA, FAX: 202-395-6974.

FOR FURTHER INFORMATION CONTACT: Peggy Robbins, Office of Management Programs (HFA-250), Food and Drug Administration, 5600 Fishers Lane, Rockville, MD 20857, 301-827-1223.

SUPPLEMENTARY INFORMATION: In compliance with 44 U.S.C. 3507, FDA has submitted the following proposed collection of information to OMB for review and clearance.

2005 Food Safety Survey

Under section 903(b)(2) of the Federal Food, Drug, and Cosmetic Act (21 U.S.C. 393(b)(2)), FDA is authorized to conduct research relating to foods and to conduct educational and public information programs relating to the safety of the Nation's food supply. FDA is planning to conduct a consumer survey about food safety under this authority. The food safety survey will provide information about consumers' food safety awareness, knowledge, concerns, and practices. A nationally representative sample of 4,000 adults in households with telephones will be selected at random and interviewed by telephone. This survey will include an oversample of Hispanics with a minimum of 500 Hispanics sampled. Additionally, 200 initial nonrespondents will be asked to participate in a short version of the survey to conduct a nonresponse analysis. Participation will be voluntary. Detailed information will be obtained about food safety risk perception, perceived sources of food contamination, knowledge of particular microorganisms, food handling practices, consumption of raw foods from animals, and perceived foodborne illness and food allergy experience.

The majority of the questions to be asked are identical to ones asked in the 2001 Food Safety Survey (the 2001 survey). Because of recent national consumer education campaigns about food safety and the large amount of media attention to food safety issues in the past few years, consumer attitudes, knowledge, and practices are likely to have changed greatly since the 2001 survey. FDA needs current information to support consumer education programs and regulatory development. Additionally, this data will be used to measure changes in food safety handling practices and food allergy reactions as part of the Healthy People 2010 food safety objectives and allergen goals. New areas on the survey include awareness of bovine spongiform encephalopathy and acrylamide, refrigeration practices, and updated questions on washing practices for fresh fruits and vegetables.

In the Federal Register of December 2, 2004 (69 FR 70147), FDA published a 60-day notice requesting public comment on the information collection provisions. Seven comments were received. Four comments did not address the information collection provisions, two comments supported the proposed collection of information, and one comment contended that it is a waste of government funds. The supporting comments requested that data from the survey be made more widely available. None of the comments included any specific suggestions for the questionnaire or survey methodology.

FDA disagrees that the food safety survey is a waste of government funds. The data from the 2005 Food Safety Survey will be used to evaluate the Healthy People 2010 objectives for food safety and for allergens. Data from the 2001 survey served as the baseline for the Healthy People 2010 food safety and allergen objectives. Results from previous food safety surveys were also used by FDA's Center for Food Safety and Applied Nutrition to provide an assessment of the level of safety of consumer food preparation and consumption practices, and levels of awareness, concern, and knowledge related to food safety.

FDA agrees that the data from the food safety survey should be distributed publicly through peer review journal articles and though government publications. It is anticipated that for the first 6 months after collection, the data will be analyzed internally. After 6 months a summary will be produced and made available to the public. Peer reviewed journal articles are planned following the summary.

Table 1.—Estimated Annual Reporting Burden¹
Questionnaire | No. of Respondents | Annual Frequency per Response | Total Annual Responses | Hours per Response | Total Hours
Pretest | 27 | 1 | 27 | 0.5 | 14
Screener | 10,000 | 1 | 10,000 | 0.0167 | 167
Survey | 4,000 | 1 | 4,000 | 0.30 | 1,200
Nonresponse | 200 | 1 | 200 | 0.10 | 20
Total | 1,401
¹ There are no capital costs or operating and maintenance costs associated with this collection of information.

The burden estimate is based on FDA's experience with the 2001 survey. Prior to the survey being fielded, a small pretest of 27 individuals (each pretest lasting half an hour) will be conducted. FDA estimates that the survey will require an average of 20 minutes per respondent and that the variation in burden across respondents will be small, based on average interview times for the 2001 survey. The proposed number of respondents is 4,000, each of whom will be asked to complete a one-time telephone interview that requires no preparation time. Additionally, 200 initial nonrespondents will be asked to participate in a short version of the survey to conduct a nonresponse analysis. The screener is estimated to take 1 minute or less per response for a total screener burden of 4,000 respondents plus 6,000 ineligibles screened, taking an estimated 167 hours. The total hours reporting burden to the public is the sum of the pretest, the screener, the completed surveys, and the nonresponse surveys, resulting in an estimated public reporting burden of 1,401 hours.

Dated: May 17, 2005.
Jeffrey Shuren,
Assistant Commissioner for Policy.

[FR Doc. 05-10289 Filed 5-23-05; 8:45 am]

BILLING CODE 4160-01-S